DEPARTMENT OF THE INTERIOR

Bureau of Land Management

[LLAZG01000.L14300000.FO0000.241A; AZPHX-080687 and AZPHX-080893]

Notice of Realty Action: Opening of Public Lands; Arizona

AGENCY: Bureau of Land Management, Interior.

ACTION: Notice of Realty Action.

SUMMARY: This Notice opens 1,920 acres, more or less, of public land located in Cochise County, Arizona, to location and entry under the public land laws, including the general mining laws.

DATES: Effective Date: May 20, 2010.

ADDRESSES: Bureau of Land Management Safford Field Office, 711 14th Avenue, Safford, Arizona 85546.

FOR FURTHER INFORMATION CONTACT: Tom Schnell, Assistant Field Manager for Nonrenewable Resources, at the above address or call 928-348-4420.

SUPPLEMENTARY INFORMATION: Pursuant to the Enabling Act of June 20, 1910, as amended (36 Stat. 557), upon Arizona statehood, the surface and subsurface interest in the subject lands became State lands. In 1947 and 1948, two separate land exchanges (PHX-080893 and PHX-080687) transferred these lands back to the United States pursuant to the Taylor Grazing Act of June 28, 1934, as amended (48 Stat. 1269). The Taylor Grazing Act allowed states to retain the mineral rights in such land exchanges, but only if the lands were “mineral in character.” The subject lands were deemed “mineral in character” based on the presence of State oil and gas leases. Therefore, the State of Arizona retained the subsurface estate and transferred only the surface estate to the United States.

In the 1990s, UOP, a general partnership that was operating a mine on the lands involved, challenged the State's determination that the lands were mineral in character and the State's retention of minerals when the lands were exchanged to the United States. As a result, the Department of the Interior's Office of Hearings and Appeals (Interior Board of Land Appeals or IBLA), required the Bureau of Land Management (BLM) to prepare a mineral report to determine whether the subject lands were mineral in character at the time of the land exchanges. Based on the BLM's mineral report, the IBLA issued a Summary Decision on September 1, 1999 (IBLA 97-227) which held that because the subject lands were non-mineral in character at the time of the 1947 and 1948 exchanges, the reservation of minerals by the State of Arizona was void, and that those minerals transferred by operation of law to the United States in the land exchanges. This Notice opens the lands to the public land and mining, mineral leasing, and mineral materials laws as specified below.

The lands are described as follows:

Gila & Salt River Meridian

T. 12 S., R. 29 E.,

Sec. 2, lots 1 to 4, inclusive, S½N½, and S½;

Sec. 3, lots 1 to 4, inclusive, S½N½, and S½;

Sec. 11.

The area described contains 1,920 acres, more or less, in Cochise County.

1. Beginning at 9 a.m. on May 20, 2010, the lands described above shall be open to the operation of the public land laws generally, subject to valid existing rights, the provisions of existing withdrawals, other segregations of record, and the requirements of applicable law. All valid applications received at 9 a.m. on May 20, 2010, shall be considered as simultaneously filed at that time. Those received thereafter shall be considered in the order of filing.

2. At 9 a.m. on May 20, 2010, the lands described above shall be open to location and entry under the United States mining laws, and to the mineral leasing and mineral materials laws, subject to valid existing rights, the provisions of existing withdrawals, other segregations of record, and the requirements of applicable law. Appropriation of the lands under the general mining laws prior to the date and time of opening is unauthorized. Any such attempted appropriation, including attempted adverse possession under 30 U.S.C. 38 (2000) shall vest no rights against the United States.

Acts required to establish a location and to initiate a right of possession are governed by State law where not in conflict with Federal law.

Scott C. Cooke,
Safford Field Manager.

[FR Doc. 2010-12146 Filed 5-19-10; 8:45 am]

BILLING CODE 4310-32-P